DEPARTMENT OF DEFENSE

Department of the Army

Notice of Intent To Prepare an Environmental Impact Statement (EIS) in Support of New Facilities for the U.S. Army Medical Research Institute of Infectious Diseases (USAMRIID), Fort Detrick, MD

AGENCY: U.S. Army Medical Research and Materiel Command, Department of the Army, DoD.

ACTION: Notice of intent.

SUMMARY: The U.S. Army announces its intent to prepare an Environmental Impact Statement (EIS) to evaluate the construction and operation of new USAMRIID facilities and the decommissioning and demolition or reuse of existing USAMRIID facilities at Fort Detrick. This EIS is being prepared and considered in accordance with requirements of the National Environmental Policy Act (NEPA) of 1969, regulations of the President's Council on Environmental Quality (40 CFR parts 1500-1508), and the Army's implementation of NEPA (32 CFR part 651), 29 March 2002.

The proposed new USAMRIID facilities will provide biocontainment laboratory space, animal facilities, and administrative offices, as well as operational and administrative support facilities. These new facilities will be located adjacent to the existing USAMRIID facilities within the National Interagency Biodefense Campus on Area A of Fort Detrick and near the biomedical research facilities of mission partners, including the Agricultural Research Service Foreign Disease—Weed Research Unit of the U.S. Department of Agriculture, the planned National Institute of Allergy and Infectious Diseases' Integrated Research Facility, and the Department of Homeland Security's National Biodefense Analysis and Countermeasures Center. The existing USAMRIID facilities on Area A will be decommissioned and either demolished or reused following occupancy of the new USAMRIID facilities.

The construction will occur in two stages. Stage 1 will provide approximately 700,000 gross square feet (gsf) of new building space for the replacement of outdated and compressed existing USAMRIID facilities in order to sustain the current mission and to expand medical testing and evaluation (T&E) capacity in support of immediate Department of Defense (DoD) and national demand. Stage 2 will encompass approximately 400,000 gsf of new building space for the balance of USAMRIID's expanded mission and for additional capacity to meet intensified national requirements for medical test and evaluation in support of biodefense research as well as to accommodate increased collaborative efforts among USAMRIID's mission partners. In addition, approximately 200,000 gsf of the existing USAMRIID facilities may be renovated and reused for laboratory or non-laboratory use, to be determined by evolving biodefense requirements.

DATES: A public scoping meeting to describe the EIS to the public will be held on Wednesday, February 22, 2006, 7 p.m. at Governor Thomas Johnson High School, 1501 N. Market St., Frederick, MD 21701. Comments on the scope of the EIS for the proposed project should be received no later than March 10, 2006. Additional information on submitting comments is included in the public participation section.

FOR FURTHER INFORMATION CONTACT: Caree Vander Linden, USAMRIID Public Affairs, 1425 Porter Street, Fort Detrick, MD 21702-5011; telephone: (301) 619-2285, fax: (301) 619-4625.

SUPPLEMENTARY INFORMATION: USAMRIID, an organization of the U.S. Army Medical Research and Materiel Command, was established in 1969 to conduct basic research, applied research, and advanced technology development against biological threats, resulting in medical solutions to protect military personnel. USAMRIID's medical countermeasures against diseases such as anthrax, smallpox, botulinum intoxication, and Ebola have included development of vaccines and drugs, diagnostic capabilities, and medical management procedures.

USAMRIID has established itself as the lead biodefense laboratory of the DoD, with unique high-level biocontainment facilities (as regulated by the Centers for Disease Control and prevention (CDC)) and expertise to safely conduct critical biomedical research. In addition to its original mission to protect military personnel, USAMRIID has been assigned a second mission to leverage these capabilities to support government-wide biological defense efforts by acting as the DoD's lead laboratory for T&E of medical biological defense products.

USAMRIID must expand its facilities to meet both the requirements for increased understanding of current biological threats and the threat of emerging diseases to U.S. military service members and citizens. Replacing the existing USAMRIID facilities on Area A of Fort Detrick is essential to accelerate the research, development, testing, and evaluation of vaccines, drugs and diagnostics for military and civilian applications. This laboratory complex, built primarily in the 1950s and 1960s for 325 personnel, now houses approximately 750 staff personnel in approximately 500,000 gsf of floor space. Major utilities and other support systems within the laboratory complex have exceeded their life expectancies and cannot readily accept new technologies. Despite high levels of maintenance that consume up to 25% of the USAMRIID operating budget, the existing facilities no longer provide an adequate platform for USAMRIID to execute its critical missions. It is estimated that approximately 900 people will staff the Stage 1 facility and a total of approximately 1,300 people will be employed upon completion of Stage 2.

The proposed new USAMRIID facilities will include biocontainment laboratories designed, constructed, and operated to Biosafety Levels (BSLs) -2, -3, and -4 and enhanced BSL-3 standards. The animal facilities will be designed, constructed and operated to Animal Biosafety Level (ABSL) -2 and enhanced ABSL-3 standards. (Note: BSLs and ABSLs are designations within a well-defined system established by the CDC and the National Institutes of Health consisting of facilities, equipment, and procedural guidelines designed to minimize risk of exposure to potentially hazardous biological pathogens for laboratory workers and the outside environment.) These BSL and ABSL facilities will enable USAMRIID researchers to safely conduct the research and development and medical T&E work required to support USAMRIID's evolving missions. The research conducted at USAMRIID has been and will continue to be solely defensive in nature. The army does not conduct offensive chemical or biological weapon research in any way, and is firmly committed to compliance with both international and domestic law including, but not limited to, the Convention on the Prohibition of the Development, Production and Stockpiling of Bacteriological (Biological) and Toxin Weapons and on Their Destruction and the Biological Weapons Anti-terrorism Act.

Environmental analyses of the Proposed Action and alternatives will evaluate land use, climate, geology, soils, water resources, wetlands, plant and animal ecology, air quality, historical and cultural resources, socioeconomic environment, noise, odors, transportation, energy resources, hazardous material management, human health and safety, environmental justice, and cumulative effects with respect to unknown or potentially significant impacts. The issues to be addressed will include safety of laboratory operations and demolition of the existing biocontainment laboratories; public health and safety; handling, collection, treatment, and disposal of research wastes; analysis of other risks; and pollution prevention.

The EIS will address several alternatives, including demolition of the existing USAMRIID facilities; partial renovation of existing USAMRIID facilities for laboratory or non-laboratory use; and a No-Action alternative, under which the proposed new USAMRIID facilities would not be built and operated and the existing USAMRIID facilities would not be decommissioned and demolished or reused. Additional alternatives may be identified in the public scoping process.

Public participation: The Army invites full public participation to promote open communication and informed decision-making. All interested persons and organizations, including minority, low-income, disadvantaged, and Native American groups, are urged to participate in this NEPA environmental analysis process. Assistance will be provided upon request to anyone with special needs to facilitate their participation in the NEPA process.

To ensure that the full range of issues related to this Proposed Action and the scope of this EIS are addressed, oral and written comments are invited from all interested parties, including appropriate Federal, state, and local agencies, and private organizations and citizens. The scoping process supporting this effort will include: establishment of the public USAMRIID EIS Web site at http://www.usamriid.army.mil/eis; dissemination of public information packages; publication in local newspapers; and coordination with public interest groups. These efforts will allow the public to provide input regarding the scope of the study and reasonable alternatives.

Public comments are welcome throughout the NEPA process and should be directed to Caree Vander Linden at the address above. Additional formal opportunities for public participation after the public scoping phase are tentatively scheduled as follows: review and comment on the Draft EIS, August-September 2006; public information meeting on the Draft EIS, August 2006. Notices of Availability for the Draft EIS, Final EIS, and Record of Decision will be provided through direct mail, the Federal Register, and other media. Notifications also will be sent to Federal, state, and local agencies and persons and organizations that submit comments or questions throughout the NEPA process. Precise schedules and locations for public meetings will be announced in the local news media. Interested individuals and organizations may request to be included on the mailing list for public distribution of meeting announcements and associated documents.

Dated: February 3, 2006.
Addison D. Davis,
Deputy Assistant Secretary of the Army (Environment, Safety and Occupational Health).

[FR Doc. 06-1165 Filed 2-7-06; 8:45 am]

BILLING CODE 3710-08-M